DEPARTMENT OF HEALTH AND HUMAN SERVICES

Substance Abuse and Mental Health Services Administration

Notice of Final Changes to SAMHSA's Discretionary Grant Announcements

AGENCY: Substance Abuse and Mental Health Services Administration, HHS.

ACTION: Notice of final changes to SAMHSA's Discretionary Grant announcements.

SUMMARY: On August 21, 2003, the Substance Abuse and Mental Health Services Administration (SAMHSA) announced plans to change its approach to announcing and soliciting applications for its discretionary grant programs in Fiscal Year (FY) 2004. These changes involved the publication of four standard grant announcements that would provide the basic program design and application instructions for four types of grants “ Services Grants, Infrastructure Grants, Best Practices Planning and Implementation Grants, and Service-to-Science Grants. The four announcements were made available for public review and comment for 60 days, with the comment period closing on October 20, 2003. This notice describes the comments received on the draft standard grant announcements and changes made to the standard grant announcements. This notice is followed by four notices that provide the final text for SAMHSA's four standard grant announcements.

Authority: Sections 509, 516, and 520A of the Public Health Service Act.

DATES: Use of the standard grant announcement will be effective November 21, 2003. The standard grant announcements must be used in conjunction with separate Notices of Funding Availability (NOFAs) that will provide application due dates and other key dates for specific SAMHSA grant funding opportunities.

ADDRESSES: Questions about SAMHSA's standard grant announcements may be directed to Cathy Friedman, M.A., Office of Policy, Planning and Budget, 5600 Fishers Lane, Room 12C-26, Rockville, Maryland, 20857. Fax: (301-594-6159) E-mail: cfriedma@samhsa.gov.

FOR FURTHER INFORMATION CONTACT: Cathy Friedman, M.A., Office of Policy, Planning and Budget, 5600 Fishers Lane, Room 12C-26, Rockville, Maryland, 20857. Fax: (301-594-6159) E-mail: cfriedma@samhsa.gov. Phone: (301) 443-1910.

SUPPLEMENTARY INFORMATION: Starting in FY 2004, SAMHSA is changing its approach to announcing and soliciting applications for its discretionary grants. SAMHSA will publish four standard grant announcements that will describe the general program design and provide application instructions for four types of grants—Services Grants, Infrastructure Grants, Best Practices Planning and Implementation Grants, and Service-to-Science Grants. These standard grant announcements will be posted on SAMHSA's Web page and will be available from SAMHSA's clearinghouses on an ongoing basis. The standard announcements will be used in conjunction with brief Notices of Funding Availability (NOFAs) that will announce the availability of funds for specific grant funding opportunities within each of the standard grant programs (e.g., Homeless Treatment grants, Statewide Family Network grants, HIV/AIDS and Substance Abuse Prevention Planning Grants, etc.).

The Notices of Funding Availability (NOFAs) announcing the availability of funds for specific grant funding opportunities will be published separately in the Federal Register, and posted on the Federal grants Web site (www.grants.gov) and on the SAMHSA Web site (www.samhsa.gov). The NOFAs will:

• Identify any specific target population or issue for the specific grant funding opportunity,

• Identify which of the four standard announcements applicants must use to prepare their applications,

• Specify total funding available for the first year of the grants and the expected size and number of awards,

• Specify the application deadline,

• Note any specific program requirements for each funding opportunity, and

• Include any limitations or exceptions to the general provisions in the standard announcement.

Applicants will need to have both the NOFA and the appropriate standard announcement to prepare their applications. Both documents will be provided, along with application materials, in the application kits available from SAMHSA's clearinghouses as well as on SAMHSA's Web site.

SAMHSA anticipates that the four standard grant announcements will be used for the majority of its grant funding opportunities. However, there will be some funding opportunities that do not fit the standard announcements. In those instances, separate stand-alone grant announcements will be published and provided to applicants as they have been in the past (i.e., in the Federal Register, on the SAMHSA Web site, on the Federal grants Web site, and through SAMHSA's clearinghouses).

SAMHSA published the draft standard grant announcements in the Federal Register for public review and comment on August 21, 2003. SAMHSA received over 50 comments on the standard grant announcements, along with numerous requests for additional information about how the standard grant announcements would function. The vast majority of the comments were positive, indicating that the proposed process could be helpful to applicants in laying the groundwork for their applications prior to the announcement of specific funding opportunities. At the same time, commentors identified several areas where the announcements could be clarified and strengthened. The following are key themes expressed in the comments received on the standard grant announcements:

• Cultural Competence and Consumer Participation—Several commentors expressed concern that the standard grant announcements did not clearly require applicants to address cultural competence and consumer participation. This has been a hallmark of SAMHSA grant announcements and many commentors were concerned that these important values appeared to have been lost. SAMHSA has revised the standard grant announcements to more explicitly address cultural competence in each of the standard grant announcements, particularly in the requirements for the Project Narrative of the applications.

• Clarification of the Evidence Standard—While commentors generally agreed that it was important to require evidence-based practices in the Services Grants and Best Practices Planning and Implementation (BPPI) Grants announcements, they did not feel that the evidence standard articulated in the draft announcements was clear.

—Commentors requested that SAMHSA clarify to what extent practices could be adapted/modified and that SAMHSA require applicants to justify the use of the practice for the target population. SAMHSA agrees that this is critical and has, therefore, deleted the “two-level” review that was initially proposed for Services and BPPI grants. Instead, the justification of the evidence-based practice has been incorporated as a scored item in the Project Narrative. Applicants will be required not only to provide evidence that the practice is effective, but also to justify its use for the target population and justify any adaptations/modifications to the practice.

—Commentors requested that SAMHSA clarify what, precisely, applicants had to say to justify the evidence-base for a practice selected from among those SAMHSA has already determined to have met the evidence standard. This has been clarified in the revised announcements. Some commentors requested that SAMHSA limit evidence-based practices to only those documented in the peer-reviewed literature. SAMHSA had considered this standard in early (i.e., pre-publication) drafts of the announcements and decided not to do so, because there are relatively few practices that have been well-researched and documented for a wide variety of target populations and in a wide-variety of settings.

—Many commentors requested that SAMHSA provide a definition of the “recognized experts” whose opinions (in the form of consensus documents) may be considered acceptable evidence of effectiveness in situations where there is little/no research-based evidence of effectiveness. Some commentors wanted to see a very broad definition, while others wanted SAMHSA to delete consensus documents as acceptable evidence of effectiveness. SAMHSA has retained consensus documents as acceptable evidence of effectiveness, but has clarified that “local recognition of an individual as a respected or influential person at the community level is not considered a ‘recognized expert’ for this purpose.”

• Clarify Government Performance and Results Act (GPRA) and Performance Measurement Requirements—The draft announcements included preliminary GPRA/performance indicators, and many comments were received requesting clarification of the data collection requirements that would accompany these preliminary GPRA/performance indicators. This work is still under development. Therefore, SAMHSA has deleted reference to the draft indicators in the standard grant announcements. The data collection and performance measurement requirements for each funding opportunity will be specified in the NOFA. SAMHSA expects to issue modified standard grant announcements once the performance indicators and related data collection requirements are finalized.

• Award Criteria—Some commentors expressed concern about the award criterion limiting awards to no more than two per States. SAMHSA has revised the award criteria to be more flexible and indicate that SAMHSA will consider a “balance of awards in terms of geography (including urban, rural and remote settings), target populations, and program size.”

• Ensure adequate application period—Commentors requested that SAMHSA distribute publication of NOFAs and receipt dates throughout the Fiscal Year in order to minimize the burden on applicants. While this is not an issue that is directly addressed in the standard grant announcements, SAMHSA does intend to distribute publication of NOFAs and receipt dates throughout the Fiscal Year. SAMHSA expects that one benefit of publishing brief NOFAs for each funding opportunity (rather than full Requests for Application) is that SAMHSA will be able to provide applicants with more time to prepare their applications.

• Submission of Documentation that Projects are Consistent with State Priorities—Reaction to this requirement was mixed among commentors. While many commentors felt that it was a positive requirement, others were concerned about the feasibility of meeting the requirement and/or the burden on the State. SAMHSA has modified the requirement to include documentation that projects are consistent with State or county priorities.

• Tribal Comments—SAMHSA received comments from several tribal organizations towards the end of the comment period. Many of them requested additional time to prepare their comments. However, because the timely publication of the FY 2004 NOFAs depends on timely finalization and publication of the standard grant announcements by the end of November 2003, SAMHSA was not able to extend the comment period. SAMHSA has attempted to incorporate the comments received into the standard grant announcements and will work with tribal organizations to address other comments in future versions of the standard grant announcements. While SAMHSA intends the grants to be available on an on-going basis, it is likely that SAMHSA will need to make some adjustments for FY 2005, based on the first year of experience in FY 2004. SAMHSA therefore declined to extend the comment period.

• Minor Technical Edits—SAMHSA received numerous comments regarding minor technical edits on the standard grant announcements. SAMHSA has incorporated those comments where possible.

SAMHSA greatly appreciates the interest and support expressed by the field in the comments on the standard grant announcements. The comments received were very helpful in clarifying and finalizing the announcements, and SAMHSA is hopeful that the final standard grant announcements will help potential applicants prepare applications for SAMHSA's FY 2004 grant funding opportunities.

Dated: November 13, 2003.
Daryl Kade,
Director, Office of Policy, Planning and Budget, Substance Abuse and Mental Health Services Administration.

[FR Doc. 03-28873 Filed 11-20-03; 8:45 am]

BILLING CODE 4162-20-P